DEPARTMENT OF HOMELAND SECURITY

Federal Emergency Management Agency

44 CFR Part 65

Changes in Flood Elevation Determinations

AGENCY: Federal Emergency Management Agency (FEMA), Emergency Preparedness and Response Directorate, Department of Homeland Security.

ACTION: Final rule.

SUMMARY: Modified Base (1% annual chance) Flood Elevations (BFEs) are finalized for the communities listed below. These modified elevations will be used to calculate flood insurance premium rates for new buildings and their contents.

EFFECTIVE DATES: The effective dates for these modified BFEs are indicated on the following table and revise the Flood Insurance Rate Map(s) (FIRMs) in effect for each listed community prior to this date.

ADDRESSES: The modified BFEs for each community are available for inspection at the office of the Chief Executive Officer of each community. The respective addresses are listed in the table below.

FOR FURTHER INFORMATION CONTACT: Doug Bellomo, P.E., Hazard Identification Section, Emergency Preparedness and Response Directorate, FEMA, 500 C Street SW., Washington, DC 20472, (202) 646-2903.

SUPPLEMENTARY INFORMATION: FEMA makes the final determinations listed below of modified BFEs for each community listed. These modified elevations have been published in newspapers of local circulation and ninety (90) days have elapsed since that publication. The Mitigation Division Director of the Emergency Preparedness and Response Directorate has resolved any appeals resulting from this notification.

The modified BFEs are not listed for each community in this notice. However, this rule includes the address of the Chief Executive Officer of the community where the modified base flood elevation determinations are available for inspection.

The modifications are made pursuant to Section 206 of the Flood Disaster Protection Act of 1973, 42 U.S.C. 4105, and are in accordance with the National Flood Insurance Act of 1968, 42 U.S.C. 4001 et seq., and with 44 CFR Part 65.

For rating purposes, the currently effective community number is shown and must be used for all new policies and renewals.

The modified BFEs are the basis for the floodplain management measures that the community is required to either adopt or to show evidence of being already in effect in order to qualify or to remain qualified for participation in the National Flood Insurance Program (NFIP).

These modified elevations, together with the floodplain management criteria required by 44 CFR 60.3, are the minimum that are required. They should not be construed to mean that the community must change any existing ordinances that are more stringent in their floodplain management requirements. The community may at any time enact stricter requirements of its own, or pursuant to policies established by other Federal, state or regional entities.

These modified elevations are used to meet the floodplain management requirements of the NFIP and are also used to calculate the appropriate flood insurance premium rates for new buildings built after these elevations are made final, and for the contents in these buildings.

The changes in BFEs are in accordance with 44 CFR 65.4.

National Environmental Policy Act. This rule is categorically excluded from the requirements of 44 CFR Part 10, Environmental Consideration. No environmental impact assessment has been prepared.

Regulatory Flexibility Act. The Mitigation Division Director of the Emergency Preparedness and Response Directorate certifies that this rule is exempt from the requirements of the Regulatory Flexibility Act because modified BFEs are required by the Flood Disaster Protection Act of 1973, 42 U.S.C. 4105, and are required to maintain community eligibility in the NFIP. No regulatory flexibility analysis has been prepared.

Regulatory Classification. This final rule is not a significant regulatory action under the criteria of Section 3(f) of Executive Order 12866 of September 30, 1993, Regulatory Planning and Review, 58 FR 51735.

Executive Order 12612, Federalism. This rule involves no policies that have federalism implications under Executive Order 12612, Federalism, dated October 26, 1987.

Executive Order 12778, Civil Justice Reform. This rule meets the applicable standards of Section 2(b)(2) of Executive Order 12778.

List of Subjects in 44 CFR Part 65

Flood insurance, floodplains, reporting and recordkeeping requirements.

Accordingly, 44 CFR Part 65 is amended to read as follows:

PART 65—[AMENDED]

1. The authority citation for Part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location | Dates and name of newspaper where notice was published | Chief executive officer of community | Effective date of modification | Community No.
Alabama: Colbert (FEMA Docket No. D-7567) | City of Muscle Shoals | December 10, 2004; December 17, 2004; Times Daily | The Honorable David H. Bradford, Mayor of the City of Muscle Shoals, P.O. Box 2624, Muscle Shoals, Alabama 35662 | November 30, 2004 | 010047 C
Connecticut: Fairfield (FEMA Docket No. D-7567) | Town of Greenwich | December 6, 2004; December 13, 2004; Greenwich Time | Mr. Jim Lash, Town of Greenwich First Selectman, Town Hall, 101 Field Point Road, Greenwich, Connecticut 06830 | November 23, 2004 | 090008 C
Florida:
Duval (FEMA Docket No. D-7567) | City of Jacksonville | October 22, 2004; October 29, 2004; The Florida Times-Union | The Honorable John Peyton, Mayor of the City of Jacksonville, City Hall at St. James, 4th Floor, 117 West Duval Street, Suite 400, Jacksonville, Florida 32202 | October 15, 2004 | 120077 E
Lake (FEMA Docket No. D-7567) | Unincorporated Areas | December 10, 2004; December 17, 2004; Orlando Sentinel | Mr. William A. Neron, Lake County Manager, P.O. Box 7800, Tavares, Florida 32778 | March 16, 2005 | 120421 D
Lake (FEMA Docket No. D-7567) | Unincorporated Areas | November 17, 2004; November 24, 2004; Orlando Sentinel | Mr. William A. Neron, Lake County Manager, P.O. Box 7800, Tavares, Florida 32778 | November 4, 2004 | 120421 D
Polk (FEMA Docket No. D-7567) | City of Lake Wales | November 17, 2004; November 24, 2004; The News Chief | Mr. Tony Otte, Lake Wales City Manager, P.O. Box 1320, Lake Wales, Florida 33859 | February 23, 2005 | 120390 G
Polk (FEMA Docket No. D-7567) | Unincorporated Areas | November 17, 2004; November 24, 2004; The News Chief | Mr. Michael Herr, Polk County Manager, P.O. Box 9005, Drawer BC 01, Bartow, Florida 33831-9005 | February 23, 2005 | 120261 G
St. Johns (FEMA Docket No. D-7567) | Unincorporated Areas | October 22, 2004; October 29, 2004; The St. Augustine Record | Mr. Ben W. Adams, II, St. Johns County Administrator, 4020 Lewis Speedway, St. Augustine, Florida 32084 | October 13, 2004 | 125147 H
Georgia:
Cherokee (FEMA Docket No. D-7567) | Unincorporated Areas | October 29, 2004; November 5, 2004; Cherokee Tribune | Mr. Michael Byrd, Chairman of the Cherokee County Board of Commissioners, 90 North Street, Suite 310, Canton, Georgia 30114 | October 20, 2004 | 130424 B
Dekalb (FEMA Docket No. D-7567) | Unincorporated Areas | December 23, 2004; December 30, 2004; The Champion | Mr. Vernon Jones, Chief Executive Officer of Dekalb County, 1300 Commerce Drive, Decatur, Georgia 30030 | December 14, 2004 | 130065 H
Bibb and Jones (FEMA Docket No. D-7567) | City of Macon | October 29, 2004; November 5, 2004; The Macon Telegraph | The Honorable C. Jack Ellis, Mayor of the City of Macon, 700 Poplar Street, Macon, Georgia 31201 | February 4, 2005 | 130011 D,E
Bulloch (FEMA Docket No. D-7567) | City of Statesboro | November 4, 2004; November 11, 2004; Statesboro Herald | The Honorable William Hatcher, Mayor of the City of Statesboro, P.O. Box 348, Statesboro, Georgia 30459-0348 | February 10, 2005 | 130021 C
Kentucky: (FEMA Docket No. D-7567) | Lexington-Fayette Urban County Government | November 5, 2004; November 12, 2004; Lexington Herald-Leader | The Honorable Teresa Isaac, Mayor of the Lexington-Fayette, Urban County Government, Lexington-Fayette Government Building, 200 East Main Street, 12th Floor, Lexington, Kentucky 40507 | October 28, 2004 | 210067 C
Tennessee:
Decatur (FEMA Docket No. D-7567) | Unincorporated Areas | December 8, 2004; December 15, 2004; The News-Leader | The Honorable Kenneth Broadway, Mayor of Decatur County, P.O. Box 488, Decaturville, Tennessee 38329 | February 1, 2005 | 470041 C
Henry (FEMA Docket No. D-7567) | Unincorporated Areas | November 8, 2004; November 15, 2004; The Paris Post-Intelligencer | The Honorable Brent Greer, Mayor of Henry County, P.O. Box 7, Paris, Tennessee 38242 | February 14, 2005 | 470228 D
Texas: Tarrant (FEMA Docket No. D-7567) | City of Southlake | October 14, 2004, October 21, 2004, Fort Worth Star Telegram | The Honorable Andy Wambsganss, Mayor of the City of Southlake, 1400 Main Street, Suite 270, Southlake, Texas 76092 | October 7, 2004 | 480612 H
Virginia: Fauquier (FEMA Docket No. D-7567) | Town of Warrenton | October 28, 2004, November 4, 2004, Fauquier Citizen | The Honorable George B. Fitch, Mayor of the Town of Warrenton, Municipal Building, 18 Court Street, Warrenton, Virginia 20186 | February 3, 2004 | 510057 A

(Catalog of Federal Domestic Assistance No. 83.100, “Flood Insurance.”)

Dated: June 14, 2005.
David I. Maurstad,
Acting Director, Mitigation Division,Emergency Preparedness and Response Directorate.

[FR Doc. 05-12168 Filed 6-20-05; 8:45 am]

BILLING CODE 9110-12-P